DEPARTMENT OF COMMERCE

Foreign-Trade Zones Board

[B-60-2020]

Foreign-Trade Zone (FTZ) 90—Syracuse, New York, Authorization of Limited Production Activity, PPC Broadband, Inc. (Fiber Optic Cables); Dewitt, New York

On October 8, 2020, PPC Broadband, Inc., (PPC Broadband) submitted a notification of proposed production activity to the FTZ Board for its facility within FTZ 90, in Dewitt, New York.

The notification was processed in accordance with the regulations of the FTZ Board (15 CFR part 400), including notice in the Federal Register inviting public comment (85 FR 65790-65791, October 16, 2020). On February 5, 2021, the applicant was notified of the FTZ Board's decision that further review of part of the proposed activity is warranted. The FTZ Board authorized the production activity described in the notification on a limited basis, subject to the FTZ Act and the Board's regulations, including Section 400.14, and further subject to restrictions requiring that foreign-status tight buffered fiber be admitted to the zone in privileged foreign status (19 CFR 146.41) and that aramid yarn, swellcoat blockers or equivalent be admitted to the zone in domestic/duty paid status (19 CFR 146.43).

Dated: February 5, 2021.
Andrew McGilvray,
Executive Secretary.

[FR Doc. 2021-02822 Filed 2-10-21; 8:45 am]

BILLING CODE 3510-DS-P